DEPARTMENT OF HEALTH AND HUMAN SERVICES

Centers for Disease Control and Prevention

[Program Announcement 02200]

Response to the HIV/AIDS Epidemic in the Caribbean Region; Pan American Health Organization (PAHO) and the Caribbean Regional Epidemiology Center (CAREC), Port of Spain, Trinidad; Notice of the Award of Funds

A. Purpose

The Centers for Disease Control and Prevention (CDC), National Center for Human Immunodeficiency Virus/Sexually Transmitted Disease/Tuberculosis (HIV/STD/TB) Prevention (NCHSTP), announces the availability Fiscal Year (FY) 2002 funds for a Cooperative Agreement to the Caribbean Regional Epidemiology Center (CAREC) through Pan American Health Organization (PAHO). The purpose of this program is to help support implementation of CDC Global AIDS Program (GAP), a United States government program that seeks to reduce the impact of HIV/AIDS in specific countries within sub-Saharan Africa, the Caribbean Region, Asia and the Americas. CDC, through GAP, focuses on strengthening the capacity of national AIDS control programs in the areas of (1) HIV primary prevention, (2) HIV care, support, and treatment, and (3) capacity and infrastructure development, especially for surveillance. Countries targeted represent those with the most severe epidemic and the highest number of new infections. They also represent countries where the potential for impact is greatest and where U.S. government agencies are already active. An updated list of partner countries for the CDC-GAP Initiative is available at: http://www.cdc.gov/nchstp/od/gap/default.htm

Measurable outcomes of the program will be in alignment with one or more of the following performance goals for the National Center for HIV, STD and TB Prevention, Global AIDS Program: Working with other countries, United States Agency for International Development (USAID), international and U.S. government agencies, reduce the number of new HIV infections among 15 to 24 year olds in sub-Saharan Africa, the Caribbean Region, Asia and the Americas from an estimated two million by 2005.

B. Eligible Applicants

Assistance will be provided only to CAREC through the PAHO, in support of LIFE Initiative activities in the Caribbean Region. No other applications will be solicited. CAREC is the most appropriate and qualified agency to conduct a specific set of activities supportive of CDC's LIFE Initiative-related assistance to countries in the Caribbean Region because:

1. CAREC is the lead agency in the Caribbean Region to provide support to this region of the world, second only to Africa, most affected by the HIV/AIDS epidemic. It is both chartered and uniquely positioned to assist national AIDS control programs in 21 member countries and its other partners to strengthen national health sector responses to HIV/AIDS.

2. World Health Organization (WHO), through its regional office, PAHO, is a leading partner within the International Partnership Against HIV/AIDS (IPAA), an international umbrella effort to increase support and visibility for a multi-lateral emergency response to the AIDS epidemic in the Caribbean Region. CAREC is supported by PAHO/WHO. Assistance will be provided to (CAREC) through the PAHO, in support of LIFE Initiative activities in the Caribbean Region. The LIFE Initiative is a key supporter of the IPAA.

3. CAREC has the capacity to provide a regional response to the specific laboratory needs for the provision of care and treatment of HIV/AIDS, information sharing and regional-level aggregation and interpretation of health data related to surveillance, prevention and care for HIV/AIDS within the region. In this sense, CAREC is unique in that it is the lead agency providing health sector policy-setting and technical assistance to 21 member countries and non-member countries on request. CAREC is supported by PAHO/WHO which maintains a network of country offices and PAHO Coordinating Centres to serve as critical links for ensuring country access to available technical resources, information and coordination. CAREC's capacity compliments CDC's focus of action and requested support from CAREC which is to build and enhance existing capacity and infrastructure to support the region in support of the Regional Strategic Plan endorsed by 21 member countries. This includes strengthening of laboratory quality and standardization within CAREC and throughout the region.

PAHO is the only international/intergovernmental agency qualified to conduct the activities under this cooperative agreement because:

Headquartered in Washington, DC, PAHO serves as the specialized organization for health of the Inter-American System and as the Regional Office for the Americas of the World Health Association (WHO). As such, PAHO has a unique position among the world's health agencies as the technical agency for health within the Americas. PAHO has access to all national health promotion and disease prevention programs and potential research sites in the Americas through its 36 member governments and its scientific and technical expert employees stationed in Washington, DC, 27 country offices, and nine scientific centers. PAHO has more than 90 years of experience in working to improve health and living standards of the countries of the Americas. PAHO's basic responsibility is to collaborate with Ministries of Health, social security agencies, other government institutions, nongovernmental organization, universities, community groups, and others to strengthen national and local health systems and to improve the health of the peoples of the Americas. PAHO offers special opportunities for furthering research programs in the Americas through the use of unusual talent resources, populations, or environmental conditions in other countries that are not readily available in the United States or that provide augmentation of existing U.S. resources. PAHO is uniquely qualified to conduct activities in the Americas that have specific relevance to the mission and objectives of CDC and which have the potential to advance knowledge that benefits the United States.

C. Availability of Funds

Approximately $250,000 dollars are available in FY 2002 to fund this award. It is anticipated that the award will begin month budget period within a project period of up to five years. Annual funding estimates may vary and are subject to change. Continuation award within the project period will be made on the basis of satisfactory progress and availability of funds.

All requests for funds, including the budget contained in the application, shall be stated in U.S. dollars. Once an award is made, the Department of Health and Human Services (DHHS) will not compensate foreign grantees for currency exchange fluctuations through the issuance of supplemental awards.

1. Use of Funds

General Use

Funds may be used for:

(a) Establishing strategies, policies and guidelines for health sector responses to the HIV/AIDS epidemic in the Caribbean Region in areas such as surveillance, laboratory, clinical management, and prevention.

(b) Conducting meetings and other relevant activities that contribute to the development, dissemination and evaluation of strategies, policies and guidelines.

(c) Aggregating and disseminating information, strategies, policies, guidelines and training materials pertinent to HIV/AIDS and HIV-related conditions, including internet-based and other tools for efficient cataloguing and disseminating such information, and support for increasing national capacities to retrieve such information from such systems.

(d) Building capacity of CAREC to provide technical assistance and services to member countries and within Ministries of Health (MOH), National AIDS Councils, and similar key national institutions.

(e) Supporting key networks and partnerships within the region to lead evidence-based, improved health sector practices relevant to HIV/AIDS in the CAREC community (such as regional training network within the Caribbean Region to provide training in HIV clinical management on a national or sub-regional basis).

General Non-Use

(a) Funds received from this announcement will not be used for capital expenditures such as the purchase of off-road and multi-passenger vehicles and large volume (greater than fifty) purchase of computers.

(b) The purchase of antiretrovirals, reagents, and laboratory equipment for antiretroviral treatment projects requires pre-approval from GAP headquarters.

(c) No funds appropriated under this Act shall be used to carry out any program of distributing sterile needles or syringes for the hypodermic injection of any illegal drug.

(d) Applicant may contract with other organizations under these cooperative agreements, however, the applicant must perform a substantial portion of the activities (including program management and operations and delivery of prevention services for which funds are requested).

(e) The costs that are generally allowable in grants to domestic organizations are likewise allowable to foreign institutions and international organizations, with the following exception: Indirect Costs: With the exception of the American University, Beirut, the Gorgas Memorial Institute, and the World Health Organization, indirect costs will not be paid (either directly or through a sub-award) to organizations located outside the territorial limits of the U.S. or to international organizations regardless of their location. Matching funds is not a requirement for this program announcement.

D. Where To Obtain Additional Information

CDC announcement information can be found on the CDC home page Internet address— http://www.cdc.gov. Scroll down the page, then click on “Funding” then “Grants and Cooperative Agreements.”

If you have questions after reviewing the contents of all the documents, business management technical assistance may be obtained from: Cynthia R. Collins, Grants Management Specialist, Centers for Disease Control and Prevention (CDC), Procurement and Grants Office, Room 3000, 2920 Brandywine Road, Mailstop E-15, Atlanta, GA 30341-4146. Telephone: (770) 488-2757. E-mail: ccollins@cdc.gov.

For program technical assistance, contact: Ethleen Lloyd, Global AIDS Program (GAP), Caribbean Region, National Center for HIV, STD, and TB Prevention, Centers for Disease Control and Prevention (CDC). Telephone: (404) 639-8016. E-mail address: esl1@cdc.gov.

Dated: october 9, 2002.
Edward J. Schultz,
Deputy Director, Procurement and Grants Office, Centers for Disease Control and Prevention.

[FR Doc. 02-26528 Filed 10-17-02; 8:45 am]

BILLING CODE 4163-18-P